DEPARTMENT OF DEFENSE

Office of the Secretary

Defense Advisory Committee on Women in the Services; Notice of Federal Advisory Committee Meeting

AGENCY: Under Secretary of Defense for Personnel and Readiness, Defense Advisory Committee on Women in the Services, Department of Defense.

ACTION: Notice of Federal Advisory Committee meeting.

SUMMARY: The Department of Defense (DoD) is publishing this notice to announce that the following Federal Advisory Committee meeting of the Defense Advisory Committee on Women in the Services will take place.

DATES:

Day 1—Open to the public Wednesday, March 22, 2017 from 8:30 a.m. to 12:20 p.m.

Day 2—Open to the public Thursday, March 23, 2017 from 8:30 a.m. to 11:30 a.m.

ADDRESSES: The address of the open meeting is the Hilton Alexandria—Mark Center, 5000 Seminary Rd., Alexandria, VA 22311.

FOR FURTHER INFORMATION CONTACT: Aimee Kominiak, (703) 697-2122 (Voice), 703-614-6233 (Facsimile), aimee.l.kominiak.mil@mail.mil (Email). Mailing address is 7722 Rockledge Court, Springfield, VA 22152. Web site: http://dacowits.defense.gov. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140.

Purpose of the Meeting: The purpose of the meeting is for the Committee to receive briefings and updates relating to their current work. The meeting will open with the swearing-in of six new members to the Committee. The Designated Federal Officer (DFO) will then give a status update on the Committee's requests for information. This will be followed with two panel discussions on the following topics: Women's Retention; and Propensity to Serve. The second day of the meeting will open with a panel discussion on Physiological Gender Differences. The Committee will then receive a briefing on the Boxing Programs at the Military Services Academies. The Committee will close out the day with a Public Comment Period.

Agenda: Wednesday, March 22, 2017, from 8:30 a.m. to 12:20 p.m.

—Welcome, Introductions, Announcements.

—Introduction and Swearing-in of New Committee Members.

—Request for Information Status Update.

—Panel Discussion—Women's Retention.

—Panel Discussion—Propensity to Serve.

—Public Dismissed.

Thursday, March 23, 2017, from 8:30 a.m. to 11:30 a.m.

—Welcome and Announcements.

—Panel Discussion—Physiological Gender Differences.

—Briefing—Boxing Programs at the Military Service Academies.

—Public Comment Period.

—Public Dismissed.

Meeting Accessibility: Meeting location is accessible to the public.

Written Statements: Individuals submitting a written statement must submit their statement to the point of contact listed at the address in FOR FURTHER INFORMATION CONTACT no later than 5:00 p.m., Tuesday, March 14, 2017. If a written statement is not received by Tuesday, March 14, 2017, prior to the meeting, which is the subject of this notice, then it may not be provided to or considered by the DACOWITS until its next open meeting. The DFO will review all timely submissions with the DACOWITS Chair and ensure they are provided to the members of the Committee. If members of the public are interested in making an oral statement, a written statement should be submitted. After reviewing the written comments, the Chair and the DFO will determine who of the requesting persons will be able to make an oral presentation of their issue during an open portion of this meeting or at a future meeting. Pursuant to 41 CFR 102-3.140(d), determination of who will be making an oral presentation is at the sole discretion of the Committee Chair and the DFO, and will depend on time available and if the topics are relevant to the Committee's activities. Five minutes will be allotted to persons desiring to make an oral presentation. Oral presentations by members of the public will be permitted only on Thursday, March 23, 2017 from 11:00 a.m. to 11:30 a.m. in front of the full Committee. The number of oral presentations to be made will depend on the number of requests received from members of the public.

Dated: March 3, 2017.
Aaron Siegel,
Alternate OSD Federal Register Liaison Officer, Department of Defense.

[FR Doc. 2017-04560 Filed 3-7-17; 8:45 am]

BILLING CODE 5001-06-P